DEPARTMENT OF TRANSPORTATION

Federal Aviation Administration

14 CFR Part 71

[Docket No. FAA 2003-15996; Airspace Docket No. 03-ANM-04]

Proposed Revision of Class E Airspace; Trinidad, CO

AGENCY: Federal Aviation Administration (FAA), DOT.

ACTION: Notice of proposed rulemaking.

SUMMARY: This action proposes to revise Class E airspace area at Perry Stokes Airport, Trinidad, CO. The establishment of an Area Navigation (RNAV) Global Positioning System (GPS) Standard Instrument Approach Procedure (SIAP); RNAV (GPS) Runway (RWY) 3, and RNAV (GPS)-B SIAP at Perry Stokes Airport, Trinidad, CO, has made this proposal necessary. The intended effect of this proposal is to provide adequate controlled airspace for Instrument Flight Rule (IFR) operations at Perry Stokes Airport, Trinidad, CO.

DATES: Comments must be received by December 22, 2003.

ADDRESSES: Send comments on this proposal to the Docket Management System, U.S. Department of Transportation, Room Plaza 401, 400 Seventh Street, SW., Washington, DC 20590-0001. You must identify the docket number, FAA 2003-15996; Airspace Docket No. 03-ANM-04, at the beginning of your comments. You may also submit comments on the Internet at http;//dms.dot.gov. You may review the public docket containing the proposal, any comments received, and any final dispositions in person in the Docket Office between 9 a.m. and 5 p.m., Monday through Friday, except Federal holidays. The Docket Office (telephone number 1 (800) 647-5527) is on the plaza level of the Department of Transportation NASSIF Building at the above address.

An informal docket may also be examined during normal business hours at the Office of the Regional Air Traffic Division, Northwest Mountain Region, Federal Aviation Administration, Airspace Branch ANM-520, 1601 Lind Avenue, SW., Renton, WA 98055.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify Docket No. FAA 2003-15996, Airspace Docket 03-ANM-04, and be submitted in triplicate to the address listed above, Commenters wishing the FAA to acknowledge receipt of their comments on this action must submit, with those comments, a self-addressed stamped postcard on which the following statement is made: “Comments to Docket No. FAA 2003-15996; Airspace Docket No. 03-ANM-04.” The postcard will be date/time stamped and returned to the commenter.

Availability of NPRM

An electronic copy of this document may be downloaded through the Internet at http://dms.dot.gov. Recently published rulemaking documents can also be accessed through the FAA's Web page at http://www.faa.gov or the Superintendent of Document's Web page at http://www.access.gpo.gov/nara.

Additionally, any person may obtain a copy of this notice by submitting a request to the Federal Aviation Administration, 1601 Lind Avenue, SW., Renton, WA, 98055. Communications must identify both document numbers for this notice. Persons interested in being placed on a mailing list for future NPRMs should contact the FAA's Office of Rulemaking, (202) 267-9677, to request a copy of Advisory Circular No. 11-2A, Notice of Proposed Rulemaking Distribution system, which describes the application procedures.

The Proposal

This action amends Title 14 Code of Federal Regulations, part 71 (14 CFR part 71) by revising Class E airspace area at Perry Stokes Airport, Trinidad, CO. The establishment of RNAV (GPS) RWY 3 and RNAV (GPS)-B SIAPs at Perry Stokes Airport has made this proposal necessary. Additional controlled airspace extending upward from 700 feet above the surface of the earth is needed to contain aircraft executing the RNAV (GPS) RWY 3 and the RNAV (GPS)-B SIAPs at Perry Stokes Airport. The intended effect of this proposal is to provide adequate controlled airspace for aircraft executing the RNAV (GPS) RWY 3 and the RNAV (GPS)-B SIAPs at Perry Stokes Airport, Trinidad, CO.

Class E airspace designations are published in paragraph 6005 of FAA Order 7400.9L dated September 16, 2003, and effective September 15, 2004, which is incorporated by reference in 14 CFR 71.1. The Class E airspace designation listed in this document will be published subsequently in this Order.

The FAA has determined that this proposed regulation only involves an established body of technical regulations for which frequent and routine amendments are necessary to keep them operationally current. Therefore, this proposed regulation—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule would not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9L, Airspace Designations and Reporting Points, dated September 16, 2003, and effective September 15, 2004, is amended as follows:

Paragraph 6005 Class E airspace areas extending upward from 700 feet or more above the surface of the earth

* * * * *

ANM CO E5 Trinidad, CO (revised)

Perry Stokes Airport, Trinidad, UT

[Lat 37°15′36″N, long. 104°20′24″W]

Trinidad Non Directional Beacon (NDB)

[Lat 37°18′22″N, long. 104°20′00″W]

That airspace extending upward from 700 feet above the surface of the earth within an 8.0 mile radius of the Perry Stokes Airport within 4.0 miles each side of the 355° from the Trinidad NDB extending from the 8.0 mile radius to 11 miles north of the NBD and 4.0 miles each side of the 225° bearing from the Trinidad Airport extending from the 8.0 mile radius to 13 miles southwest of the airport; that airspace extending upward from 1,200 feet above the surface of the earth within 10.4 miles west and 16.8 miles east of the 355° and 175° bearings from the Trinidad NDB extending from 19.7 miles south to 28 miles north of the NDB; and bounded by a line beginning at the intersection of V-389 and Lat. 37°00′00″N, thence south along V-389, thence southwest along V-263/389, thence north along V-611 until Lat. 37°00′00″N, and thence to the point of beginning at the northwest corner of the parallelogram; excluding that airsapce within Federal airways.

* * * * *

Issued in Seattle, Washington, on September 22, 2003.
ViAnne Fowler,
Acting Assistant Manager, Air Traffic Division, Northwest Mountain Region.

[FR Doc. 03-27908 Filed 11-5-03; 8:45 am]

BILLING CODE 4910-13-M